DEPARTMENT OF DEFENSE

Office of the Secretary

[Docket No. DoD-2009-OS-0089]

Submission for OMB Review; Comment Request

ACTION: Notice.

The Department of Defense has submitted to OMB for clearance, the following proposal for collection of information under the provisions of the Paperwork Reduction Act (44 U.S.C. Chapter 35).

DATES: Consideration will be given to all comments received by November 1, 2010.

Title and OMB Number: Application for Homeowners Assistance; DD Form 1607; OMB Control Number 0704-0463.

Type of Request: Extension.

Number of Respondents: 17,000.

Responses per Respondent: 1.

Annual Responses: 17,000.

Average Burden per Response: 1 hour.

Annual Burden Hours: 17,000 hours.

Needs and Uses: The Secretary of Defense is authorized to provide financial help to eligible homeowners serving or employed at or near military installations which were ordered closed or partially closed, realigned or were ordered to reduce the scope of operations. The Department of the Army acts as executive agent for DoD in administering the program for all military departments. Before benefits can be paid, certain conditions must be met.

Eligible homeowners use the DD Form 1607, “Application for Homeowners Assistance” to apply. The application is reviewed by a department personnel office, military or civilian, for verification of service or employment and mailed to the appropriate office of the U.S. Army Corps of Engineers which administers the program. The U.S. Army Corps of Engineers will notify the applicant.

The Department plans to expand its Homeowners Assistance Program (HAP), with $555 million in Recovery Act funds dedicated to helping military families and DoD civilians who recently sold their homes at a loss. The expanded program will assist families forced to relocate due to base closures or normal assignment rotations. But, the most important aspect is that priority access to the funds will go to survivors of those killed during deployment, and those who were wounded, ill or injured during deployment.

Affected Public: Individuals or households.

Frequency: On occasion.

Respondent's Obligation: Required to obtain or retain a benefit.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: September 23, 2010.
Patricia L. Toppings,
OSD Federal Register Liaison Officer, Department of Defense.

[FR Doc. 2010-24527 Filed 9-29-10; 8:45 am]

BILLING CODE 5001-06-P